NATIONAL LABOR RELATIONS BOARD

Notice of Meeting

Agency Holding the Meeting: National Labor Relations Board.

Time and Date: 2 p.m., Tuesday, May 25, 2004.

Place: Board Conference Room, Eleventh Floor, 1099 Fourteenth St., NW., Washington, DC 20570.

Status: Closed to public observation, Pursuant to 5 U.S.C. 552(c)(2) (internal personnel rules and practices).

Matters To Be Considered:

FOR FURTHER INFORMATION CONTACT: Lester A. Heltzer, Executive Secretary, Washington, DC 20570, Telephone: (202) 273-1067.

Dated, Washington, DC, May 27, 2004.
By direction of the Board.
Lester A. Heltzer
Executive Secretary, National Labor Relations Board.

[FR Doc. 04-12396 Filed 5-27-04; 10:43 am]

BILLING CODE 7545-01-M